SURFACE TRANSPORTATION BOARD

Notice and Request for Comments

ACTION: 60-day notice of intent to seek extension of approval: Information Collection Activities: Recordations (Rail and Water Carrier Liens), Water Carrier Tariffs, and Agricultural Contract Summaries.

AGENCY: Surface Transportation Board.

SUMMARY: As required by the Paperwork Reduction Act of 1995, 44 U.S.C. 3501-3521 (PRA), the Surface Transportation Board (STB or Board) gives notice of its intent to seek from the Office of Management and Budget (OMB) an extension of the information collections required under 49 U.S.C. 11301 and 49 CFR 1177 (rail or water carrier equipment liens (recordations)), under 49 U.S.C. 13702(b) and 49 CFR 1312 (water carrier tariffs), and under 49 U.S.C. 10709(d) and 49 CFR 1313 (rail agricultural contract summaries). The information collections are described in more detail below.

Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collections

Collection Number 1

Title: Agricultural Contract Summaries.

OMB Control Number: 2140-0024.

STB Form Number: None.

Type of Review: Extension with change.

Number of Respondents: Approximately 10 (seven Class I railroads and a limited number of other railroads).

Frequency: On occasion. (Over the last three years, respondents have filed an average of 161 agricultural contract summaries per year. The same number of filings is expected during each of the next 3 years.)

Total Burden Hours (annually including all respondents): 40.25 hours (161 submissions × .25 hours estimated per submission).

Total Annual “Non-hour Burden” Cost (such as start-up and mailing costs): There are no non-hourly burden costs for this collection. The collection is filed electronically.

Needs and Uses: Under 49 U.S.C. 10709(d), railroads are required to file a summary of the nonconfidential terms of any contract for the transportation of agricultural products.

Retention Period: Paper copies of this collection are destroyed six months after the expiration of the referenced contract.

Collection Number 2

Title: Recordations (Rail and Water Carrier Liens).

OMB Control Number: 2140-0025.

STB Form Number: None.

Type of Review: Extension with change.

Respondents: Parties holding liens on rail equipment or water carrier vessels, and carriers filing proof that a lien has been removed.

Number of Respondents: Approximately 50 respondents.

Frequency: On occasion. (Over the last three years, respondents have filed an average of 1,831 responses per year. The same number of filings is expected during each of the next 3 years.)

Total Burden Hours (annually including all respondents): 457.75 hours (1,831 submissions × .25 hours estimated per response).

Total “Non-hour Burden” Cost (such as start-up and mailing costs): There are no non-hourly burden costs for this collection. The collection may be filed electronically.

Needs and Uses: Under 49 U.S.C. 11301 and 49 CFR 1177, liens on rail equipment must be filed with the STB in order to perfect a security interest in the equipment. Subsequent amendments, assignments of rights, or release of obligations under such instruments must also be filed with the agency. This information is maintained by the Board for public inspection. Recordation at the STB obviates the need for recording the liens in individual States.

Retention Period: Recordations of liens are destroyed 60 years after the last filing.

Collection Number 3

Title: Water Carrier Tariffs.

OMB Control Number: 2140-0026.

STB Form Number: None.

Type of Review: Extension with change.

Respondents: Water carriers that provide freight transportation in noncontiguous domestic trade.

Number of Respondents: Approximately 29.

Frequency: On occasion. (Over the last three years, respondents have filed an average of 228 responses per year. The same number of filings is expected during each of the next 3 years.)

Total Burden Hours (annually including all respondents): 171 hours (228 filings × .75 hour estimated time per filing).

Total “Non-hour Burden” Cost (such as start-up costs and mailing costs): There are no non-hourly burden costs for this collection. The collection may be filed electronically.

Needs and Uses: Under 49 U.S.C. 13702(b) and 49 CFR 1312, water carriers that provide freight transportation in noncontiguous domestic trade (i.e., domestic, as opposed to international) shipments moving to or from Alaska, Hawaii, or the U.S. territories or possessions (Puerto Rico, Guam, the U.S. Virgin Islands, American Samoa, and the Northern Mariana Islands)) must file tariffs, providing a list of prices and fees that the water carrier charges to the shipping public.

Retention Period: After cancellation, tariffs are placed in a “Cancelled Tariffs” file. They are destroyed five years after the end of the year in which they were cancelled.

DATES: Comments on this information collection should be submitted by July 1, 2016.

ADDRESSES: Direct all comments to Chris Oehrle, Surface Transportation Board, 395 E Street SW., Washington, DC 20423-0001, or to PRA@stb.dot.gov. When submitting comments, please refer to the title of the collection about which you are commenting. For further information regarding this collection, contact Michael Higgins, Deputy Director, Office of Public Assistance, Governmental Affairs, and Compliance at (202) 245-0284 or at higginsm@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: April 27, 2016.
Jeffrey Herzig,
Clearance Clerk.

[FR Doc. 2016-10190 Filed 4-29-16; 8:45 am]

BILLING CODE 4915-01-P